DEPARTMENT OF AGRICULTURE

Animal and Plant Health Inspection Service

[Docket No. 01-009-8]

Wildlife Services; Availability of a Supplemental Environmental Assessment and Decision/Finding of No Significant Impact for Oral Rabies Vaccine Program on National Forest System Lands

AGENCY: Animal and Plant Health Inspection Service, USDA. Cooperating Agency: Forest Service, USDA.

ACTION: Notice of availability and request for comments.

SUMMARY: We are advising the public that we have prepared a supplemental environmental assessment (EA) and proposed decision/finding of no significant impact (FONSI) relative to oral rabies vaccination programs on National Forest System lands in several States. Since the publication of our original EA and decision/FONSI (2001), a subsequent supplemental decision/FONSI (2002), a supplemental EA and decision/FONSI (2003), and a second supplemental EA and decision/FONSI (2004), we determined the need to further expand the oral rabies vaccination program to include National Forest System lands, excluding Wilderness Areas, to effectively stop the westward and northward spread of the rabies virus across the United States and into Canada. Thus, an EA and decision/FONSI was prepared in 2004 to facilitate planning, interagency coordination, and program management and to provide the public with our analysis of potential individual and cumulative impacts of an expanded oral rabies vaccine program. The supplemental EA and proposed decision/FONSI (2005) made available by this notice serves to update program needs and evaluate current data.

DATES: We will consider all comments that we receive on or before January 9, 2006. Unless we determine that new substantial issues bearing on the effects of the proposed expansion of the oral rabies vaccine programs have been raised by public comments on this notice, the proposed decision/FONSI will become final and take effect upon the close of the comment period.

ADDRESSES: You may submit comments by either of the following methods:

• Federal eRulemaking Portal: Go to http://www.regulations.gov and, in the “Search for Open Regulations” box, select “Animal and Plant Health Inspection Service” from the agency drop-down menu, then click on “Submit.” In the Docket ID column, select APHIS-2005-0098 to submit or view public comments and to view supporting and related materials available electronically. After the close of the comment period, the docket can be viewed using the “Advanced Search” function in Regulations.gov.

• Postal Mail/Commercial Delivery: Please send four copies of your comment (an original and three copies) to Docket No. 01-009-8, Regulatory Analysis and Development, PPD, APHIS, Station 3A-03.8, 4700 River Road, Unit 118, Riverdale, MD 20737-1238. Please state that your comment refers to Docket No. 01-009-8.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov. To obtain copies of any of the documents discussed in this notice, contact Tara Wilcox, Operational Support Staff, WS, APHIS, 4700 River Road, Unit 87, Riverdale, MD 20737-1234; phone (301) 734-7921, fax (301) 734-5157, or e-mail: Tara.C.Wilcox@aphis.usda.gov. When requesting copies, please specify the document or documents you wish to receive.

FOR FURTHER INFORMATION CONTACT: Mr. Dennis Slate, Rabies Program Coordinator, Wildlife Services, APHIS, 59 Chenell Drive, Suite 7, Concord, NH 03301-8548; (603) 223-9623.

SUPPLEMENTARY INFORMATION:

Background

The Wildlife Services (WS) program in the Animal and Plant Health Inspection Service (APHIS) cooperates with Federal agencies, State and local governments, and private individuals to research and implement the best methods of managing conflicts between wildlife and human health and safety, agriculture, property, and natural resources. Wildlife-borne diseases that can affect domestic animals and humans are among the types of conflicts that APHIS-WS addresses. Wildlife is the dominant reservoir of rabies in the United States.

On December 7, 2000, a notice was published in the Federal Register (65 FR 76606-76607, Docket No. 00-045-1) in which the Secretary of Agriculture declared an emergency and transferred funds from the Commodity Credit Corporation to APHIS-WS for the continuation and expansion of oral rabies vaccination (ORV) programs to address rabies in the States of Ohio, New York, Vermont, Texas, and West Virginia.

On March 7, 2001, we published a notice in the Federal Register (66 FR 13697-13700, Docket No. 01-009-1) to solicit public involvement in the planning of a proposed cooperative program to stop the spread of rabies in the States of New York, Ohio, Texas, Vermont, and West Virginia. The notice also stated that a small portion of northeastern New Hampshire and the western counties in Pennsylvania that border Ohio could also be included in these control efforts, and discussed the possibility of APHIS-WS cooperating in smaller-scale ORV projects in the States of Florida, Massachusetts, Maryland, New Jersey, Virginia, and Alabama. The March 2001 notice contained detailed information about the history of the problems with raccoon rabies in eastern States and with gray fox and coyote rabies in Texas, along with information about previous and ongoing efforts using ORV baits in programs to prevent the spread of the rabies variants or “strains” of concern.

Subsequently, on May 17, 2001, we published in the Federal Register (66 FR 27489, Docket No. 01-009-2) a notice in which we announced the availability, for public review and comment, of an environmental assessment (EA) that examined the potential environmental effects of the ORV programs described in our March 2001 notice. We solicited comments on the EA for 30 days ending on June 18, 2001. We received one comment by that date. The comment was from an animal protection organization and supported APHIS' efforts toward limiting or eradicating rabies in wildlife populations. The commenter did not, however, support the use of lethal monitoring methods or local depopulation as part of an ORV program.

Finally, on August 30, 2001, we published a notice in the Federal Register (66 FR 45835-45836, Docket No. 01-009-3) in which we advised the public of APHIS' decision and finding of no significant impact (FONSI) regarding the use of oral vaccination to control specific rabies virus strains in raccoons, gray foxes, and coyotes in the United States. That decision allows APHIS-WS to purchase and distribute ORV baits, monitor the effectiveness of the ORV programs, and participate in implementing contingency plans that may involve the reduction of a limited number of local target species populations through lethal means (i.e., the preferred alternative identified in the EA). The decision was based upon the final EA, which reflected our review and consideration of the comments received from the public in response to our March 2001 and May 2001 notices and information gathered during planning/scoping meetings with State health departments, other State and local agencies, the Ontario Ministry of Natural Resources, and the Centers for Disease Control and Prevention.

Following the August 2001 publication of our original decision/FONSI, we determined there was a need to expand the ORV programs to include the States of Kentucky and Tennessee to effectively stop the westward spread of raccoon rabies. Accordingly, we prepared a supplemental decision/FONSI to document the potential effects of expanding the programs. We published a notice announcing the availability of the supplemental decision/FONSI in the Federal Register on July 5, 2002 (67 FR 44797-44798, Docket No. 01-009-4).

Following the publication of the supplemental decision/FONSI in July 2002, we determined the need to further expand the ORV program to include the States of Georgia and Maine to effectively prevent the westward and northward spread of the rabies virus across the United States and into Canada. To facilitate planning, interagency coordination, and program management and to provide the public with our analysis of potential individual and cumulative impacts of the expanded ORV programs, we prepared a supplemental EA that addresses the inclusion of Georgia and Maine, as well as the 2002 inclusion of Kentucky and Tennessee, in the ORV program. In addition, we prepared a new decision/FONSI based on the supplemental EA that was published in the Federal Register on June 30, 2003 (68 FR 38669-38670, Docket No. 01-009-5).

Following publication of the 2003 supplemental EA and decision/FONSI, we determined the need to further expand the ORV program to include portions of National Forest System lands, excluding Wilderness Areas, within several eastern States. The National Forest System lands where APHIS-WS involvement could be expanded included the States of Maine, New York, Vermont, New Hampshire, Pennsylvania, Ohio, Virginia, West Virginia, Tennessee, Kentucky, Alabama, Georgia, Florida, North Carolina, South Carolina, Massachusetts, Maryland, and New Jersey. Cooperative rabies surveillance activities and/or baiting programs were already being conducted on various land classes, with the exception of National Forest System lands, in many of the aforementioned States. The programs' primary goals were to stop the spread of a specific raccoon rabies variant or “strain” of the rabies virus. If not stopped, this strain could potentially spread to much broader areas of the United States and Canada and cause substantial increases in public and domestic animal health costs because of increased rabies exposures. As numerous National Forest System lands are located within current and potential ORV barrier zones, it became increasingly important to bait these large land masses to effectively combat this strain of the rabies virus. In addition, we prepared a new decision/FONSI based on the supplemental EA that was published in the Federal Register on February 20, 2004 (69 FR 7904-7905, Docket No. 01-009-6).

Following the 2004 supplemental EA and decision/FONSI for expansion of the ORV program to include portions of National Forest System lands, we determined the need to further expand the ORV program to include 25 eastern States (Maine, New York, Vermont, New Hampshire, Pennsylvania, Ohio, Virginia, West Virginia, Tennessee, Kentucky, Alabama, Georgia, Florida, North Carolina, South Carolina, Massachusetts, Maryland, Connecticut, Rhode Island, Delaware, Indiana, Michigan, Mississippi, Louisiana and New Jersey), the District of Columbia, and Texas to effectively prevent the westward and northward spread of the rabies virus across the United States and into Canada. In addition, we prepared a new decision/FONSI based on the supplemental EA that was published in the Federal Register on September 23, 2004 (69 FR 56992-56993, Docket No. 01-009-7).

Following the 2004 supplemental EA and decision/FONSI, we determined the need to also expand the ORV program to include portions of National Forest System lands, excluding Wilderness Areas, within the same 25 eastern States and the District of Columbia. As numerous National Forest System lands are located within current and potential ORV barrier zones, it has become increasingly important to bait these large land masses to effectively combat this strain of the rabies virus. The supplemental EA made available by this notice analyzes the proposed action and several alternatives with respect to a number of environmental and other issues raised by involved cooperating agencies and the public.

The August 2001 EA and decision/FONSI, the July 2002 supplemental decision/FONSI, the June 2003 supplemental EA and decision/FONSI, the February 2004 EA and decision/FONSI for expanded ORV program activities on National Forest System lands, the September 2004 supplemental EA and decision/FONSI, and the supplemental EA and proposed decision/FONSI for further expansion of ORV program activities on National Forest System lands, that are the subject of this notice have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 2nd day of December, 2005.
Kevin Shea,
Acting Administrator, Animal and Plant Health Inspection Service.

[FR Doc. E5-7064 Filed 12-7-05; 8:45 am]

BILLING CODE 3410-34-P